DEPARTMENT OF TRANSPORTATION

Federal Aviation Administration

14 CFR Part 39

[Docket No. FAA-2011-0959; Directorate Identifier 2011-NE-25-AD; Amendment 39-16970; AD 2012-04-14]

RIN 2120-AA64

Airworthiness Directives; Rolls-Royce plc Turbofan Engines

AGENCY: Federal Aviation Administration (FAA), DOT.

ACTION: Final rule; correction.

SUMMARY: The FAA is correcting an airworthiness directive (AD) that published in the Federal Register. That AD applies to RB211-Trent 800 series turbofan engines. The last comment response in the preamble and the first sentence of regulatory text paragraph (g)(1) are incorrect. The repetitive inspection interval should be 2,000 flight cycles, not 1,000 flight cycles. This document corrects those errors. In all other respects, the original document remains the same.

DATES: This final rule is effective April 11, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Alan Strom, Aerospace Engineer, Engine Certification Office, FAA, Engine & Propeller Directorate, 12 New England Executive Park, Burlington, MA 01803; email: alan.strom@faa.gov; phone: 781-238-7143; fax: 781-238-7199.

SUPPLEMENTARY INFORMATION: AD 2012-04-14, Amendment 39-16970 (77 FR 13485, March 7, 2012), currently requires inspecting the front combustion liner head section for cracking, and if found cracked, removing the front combustion liner head section from service at the next shop visit.

As published, the last comment response in the preamble, and the first sentence of regulatory text paragraph (g)(1), are incorrect. No other part of the preamble or regulatory text has been changed; therefore, only the changed portions of the final rule is being published in the Federal Register.

The effective date of this AD remains April 11, 2012.

Correction of Non-Regulatory Text

In the Federal Register of March 7, 2012, AD 2012-04-14; Amendment 39-16970, is corrected to read as follows:

On page 13486, in the 3rd column, under the heading Need to Show All Acceptable Means of Completing the On-Wing Inspection, the 2nd sentence in the 1st paragraph is corrected to read “We changed the 2nd sentence of paragraphs (f)(1) and (g)(1) of the proposed AD from:”

On page 13486, in the 3rd column, under the heading Need to Show All Acceptable Means of Completing the On-Wing Inspection, the 1st sentence in the 2nd and 3rd paragraphs, is deleted.

Correction of Regulatory Text

§ 39.13 [Corrected]

In the Federal Register of March 7, 2012, AD 2012-04-14; Amendment 39-16970, on page 13487, in the first column, in paragraph (g)(1), the first sentence is corrected to read as follows:

* * * * *

(g)(1) At intervals not to exceed 2,000 FCs, inspect the front combustion liner head section for cracking.

* * * * *

Issued in Burlington, Massachusetts, on March 30, 2012.
Colleen D'Alessandro,
Assistant Manager, Engine & Propeller Directorate, Aircraft Certification Service.

[FR Doc. 2012-8289 Filed 4-6-12; 8:45 am]

BILLING CODE 4910-13-P